DEPARTMENT OF TRANSPORTATION

Federal Aviation Administration

Proposed Change to Appendix 3 of Advisory Circular 150/5345-53B, Airport Lighting Equipment Certification Program

AGENCY: Federal Aviation Administration (FAA), US DOT.

ACTION: Request for comments.

SUMMARY: The FAA proposes to expand the list of equipment types that may be certified under the Airport Lighting Equipment Certification Program to include Underground Electrical Cable for Airport Lighting Circuits (L-824) and Power and Control Units for Land and Hold Short Lighting Systems (L-884). The Secretary of Transportation is providing notice and opportunity for public comment on the addition of Underground Electrical Airport Cable for Airport Lighting Circuits (L-824) and Power and Control Unit for Land and Hold Short Lighting Systems (L-884) to the Airport Lighting Equipment Certification Program.

DATES: Comments must be submitted at or before June 14, 2000.

ADDRESSES: Send all comments on the proposed change to the Federal Aviation Administration, Attn: Engineering and Specifications Division, AAS-200, 800 Independence Avenue SW, Washington, DC 20591.

FOR FURTHER INFORMATION CONTACT: Mr. John L. Rice, Manager, Engineering Specifications Division, AAS-200, Room 619, FAA, 800 Independence Avenue SW, Washington, DC 20591; telephone (202) 267-8745.

SUPPLEMENTARY INFORMATION:

Comments Invited

Since 1990 the FAA has issued a list of airfield lighting equipment that has been certified as meeting FAA specifications by independent third party testing laboratories. The certified equipment list provides a readily available means for airport sponsors, or their representatives to use when specifying airfield lighting equipment that is required to meet FAA specifications.

Underground electrical cable for airport lighting circuits is considered to be an integral part of airport lighting systems and should be certified as meeting FAA specifications to enhance system reliability in the same way that other components of airfield lighting systems are certified. Power and control units for land and hold short lighting systems are new pieces of equipment, which have never been certified through the Airport Lighting Equipment Certification Program. Advisory Circular 150/5345-53B, Airport Lighting Equipment Certification Program, the latest certified equipment list, and the address list of certified airport lighting equipment manufacturers are available on the Internet at the FAA Office of the Associate Administrator for Airports (ARP) home page on the Internet's World Wide Web (www). The direct Internet address is: www.faa.gov/arp/arphome.htm.

A copy of the subject change may be obtained by contacting the person named above under FOR FURTHER INFORMATION CONTACT or by downloading the draft change from the following Internet website: http://www.faa.gov/arp/draftacs.htm. Interested parties are invited to comment on the proposed change and to submit written data, views, or arguments, as they desire. Commentors must identify the subject of the change and submit comments in duplicate to the address specified above. The Engineering and Specifications Division will consider all communications received on or before the closing date for comments before issuance to the final change.

Proposed Change to Appendix 3

The complete text of Appendix 3 with the proposed changes appears below.

Appendix 3—Certified Airport Lighting Equipment

Notice to Users

This appendix provides a list of the current equipment under the certification program. The specification for each type of equipment listed below in this document is contained in the AC given. The equipment specification defines the type, class, and style classifications used in the listing. Not all combinations of type, class, and style are permissible. The equipment specification should be consulted for approved equipment configurations.

An addendum to this appendix listing all current certified equipment with the manufacturer is updated monthly. It is available on the Internet at FAA Office of the Associate Administrator for Airports (ARP) home page (www.faa.gov/arp/arphome.htm) under “Advisory Circulars” in the file titled “150/5345-53 Addendum.” This addendum can also be obtained from the Office of Airport Safety and Standards, Attention: AAS-200, Federal Aviation Administration, 800 Independence Ave. SW, Washington, DC 20591, or from those FAA offices as listed in AC 150/5000-3, current edition.

For the sake of brevity in the addendum, manufacturers who have qualified an entire equipment series or product line have the equipment listed under a single general catalog number. These general numbers are not intended for use in ordering equipment, and users should consult equipment manufacturers' catalogs or literature for complete ordering information, especially for equipment having optional features. For each fixture, the number in parentheses ( ) after the manufacturer's catalog number indicates the specific lamp type used in testing the equipment. A description of each lamp use is provided in the addendum.

L-801 Beacons, Medium Intensity (AC 150/5345-12)

L-802 Beacons, High Intensity (AC 150/5345-12)

L-804 Light, Holding Position Edge (AC 150/5345-46)

L-806 Wind Cones, Frangible (AC 150/5345-27)

L-807 Wind Cones, Rigid (AC 150/5345-27)

L-810 Lights, Obstruction (AC 150/5345-43)

L-821 Panel, Airport Lighting Control (AC 150/5345-3)

L-823 Connectors, Cable (AC 150/5345-26)

L-824 Underground Electrical Cable for Airport Lighting Circuits (AC 150/5345-7D)

L-827 Monitors, Regulator (AC 150/5345-10)

L-8281 Regulators, Constant Current (AC 150/5345-10)

L-829 Regulators, Monitored Constant Current (AC 150/5345-10)

L-830 Isolation Transformers, 60Hz (AC 150/5345-47)

L-831 Isolation Transformers, 50Hz (AC 150/5345-47)

L-841 Cabinet, Auxiliary Relay (AC 150/5345-13)

L-847 Switch, Circuit Selector (AC 150/5345-5)

L-849 Lights, Runway End Identification (AC 150/5345-51)

L-850 Lights, Runway, Inpavement (AC 150/5345-46)

L-852 Lights, Taxiway, Inpavement (AC 150/5345-46)

L-853 Markers, Retroreflective (AC 150/5345-39)

L-854 Radio Controls (AC 150/5345-49)

L-856 Lights, Obstruction, High Intensity, White, 40 FMP (AC 150/5345-43)

L-857 Lights, Obstruction, High Intensity, White, 60 FPM (AC 150/5345-43)

L-858 Signs, Runway and Taxiway (AC 150/5345-44)

L-859 Lights, Flashing, Omnidirectional (AC 150/5345-51)

L-860 Lights, Runway Edge, Low Intensity (AC 150/5345-46)

L-861 Lights, Runway & Taxiway Edge, Medium Intensity (AC 150/5345-46)

L-862 Lights, Runway Edge, High Intensity (AC 150/5345-46)

L-863 Lights, Portable Runway (AC 150/5345-50)

L-864 Lights, Obstruction, Red, 20-40 FPM (AC 150/5345-43)

L-865 Lights, Obstruction, Medium Intensity, White, 40 FMP (AC 150/5345-43)

L-866 Lights, Obstruction, Medium Intensity, White, 60 FPM (AC 150/5345-43)

L-867 Light Base, Non-Load Bearing (AC 150/5345-42)

L-868 Light Base, Load Bearing (150/5345-42)

L-869 Junction Box (AC 150/5345-42)

L-880 Precision Approach Path Indicator (AC 150/5345-28)

L-881 Abbreviated Precision Approach Path Indicator (AC 150/5345-28)

L-882 Generic Visual Approach Descent Indicator (AC 150/5345-52)

L-883 Generic Visual Approach Descent Indicator (AC 150/5345-52)

Light Structure, Lightweight (AC 150/5345-45)

L-884 Power and Control Unit for Land and Hold Short Lighting Systems (AC 150/5345-54)

L-885 Lights, Obstruction (AC 150/5345-43)

Issued in Washington, DC on May 5, 2000.
David L. Bennett,
Director, Office of Airport Safety and Standards.

[FR Doc. 00-12172 Filed 5-12-00; 8:45 am]

BILLING CODE 4910-13-M